DEPARTMENT OF COMMERCE

International Trade Administration

[A-580-809]

Circular Welded Non-Alloy Steel Pipe From the Republic of Korea: Final Results of Antidumping Duty Administrative Review and Final Determination of No Shipments; 2021-2022; Correction

AGENCY: Enforcement and Compliance, International Trade Administration, Department of Commerce.

ACTION: Notice; correction.

SUMMARY: The U.S. Department of Commerce (Commerce) published notice in the Federal Register of June 5, 2024 in which Commerce published the final results of the 2021-2022 administrative review of the antidumping duty (AD) order on circular welded non-alloy steel pipe (CWP) from the Republic of Korea (Korea). This notice incorrectly listed two companies in Appendix II, incorrectly excluded one company from Appendix II, and incorrectly stated the name of another company in Appendix II.

FOR FURTHER INFORMATION CONTACT: Dusten Hom, AD/CVD Operations, Office I, Enforcement and Compliance, International Trade Administration, U.S. Department of Commerce, 1401 Constitution Avenue NW, Washington, DC 20230; telephone: (202) 482-5075.

SUPPLEMENTARY INFORMATION:

Background

On June 5, 2024, Commerce published in the Federal Register the final results of the 2021-2022 administrative review of the AD order on CWP from Korea.¹ In Appendix II that lists the companies not individually examined, we inadvertently included the companies, Vesta Co., Ltd., which was not an initiated company in this review, and Hyundai Steel Company, which was a mandatory respondent company, not a non-examined company. We also misspelled the name of the company Samkand M&T as “Samkang M&T” and did not include NEXTEEL Co., Ltd. in Appendix II.

¹ See Circular Welded Non-Alloy Steel Pipe From the Republic of Korea: Final Results of Antidumping Duty Administrative Review and Final Determination of No Shipments; 2021-2022, 89 FR 48143 (June 5, 2024).

Correction

In the Federal Register of June 5, 2024, in FR Doc 2024-12344, on page 48145, in the second column, correct the appendix entitled “Appendix II—List of Companies Not Individually Examined” by removing “Hyundai Steel Company” and “Vesta Co., Ltd.,” adding “NEXTEEL Co., Ltd.,” and changing “Samkang M&T” to “Samkand M & T.” The corrected appendix entitled “Appendix II—List of Companies Not Individually Examined” is attached to this notice.

Notification to Interested Parties

This notice is issued and published in accordance with section 751(a) of the Tariff Act of 1930, as amended, and 19 CFR 351.213.

Dated: June 6, 2024.
Ryan Majerus,
Deputy Assistant Secretary for Policy and Negotiations, performing the non-exclusive functions and duties of the Assistant Secretary for Enforcement and Compliance.

Appendix II

List of Companies Not Selected for Individual Examination

1. Aju Besteel

2. Bookook Steel

3. Chang Won Bending

4. Dae Ryung

5. Daewoo Shipbuilding & Marine Engineering

6. Daiduck Piping

7. Dong Yang Steel Pipe

8. Dongbu Steel

9. EEW Korea Company

10. Hyundai RB

11. Kiduck Industries

12. Kum Kang Kind

13. Kumsoo Connecting

14. Miju Steel Mfg

15. NEXTEEL Co., Ltd.

16. Samkand M & T

17. Seah FS

18. SeAH Steel Corporation

19. Steel Flower

20. YCP Co., Ltd

[FR Doc. 2024-12851 Filed 6-11-24; 8:45 am]

BILLING CODE 3510-DS-P